DEPARTMENT OF COMMERCE

International Trade Administration

Export Trade Certificate of Review

ACTION: Notice of Modification of Export Trade Certificate of Review Application No. 92-00015.

SUMMARY: The Secretary of Commerce issued an Export Trade Certificate of Review to Refined Sugar Trading Institute on May 3, 1993. Because this Certificate Holder has failed to file a complete annual report as required by law, the Secretary is modifying the certificate. This notice summarizes the notification letter sent to Refined Sugar Trading Institute.

FOR FURTHER INFORMATION CONTACT: Jeffrey Anspacher, Director, Export Trading Company Affairs, International Trade Administration, 202/482-5131. This is not a Toll-free number.

SUPPLEMENTARY INFORMATION: Title III of the Export Trading Company Act of 1982 (“The Act”) (Pub. L. 97-290, 15 U.S.C. 4011-21) Authorizes the Secretary of Commerce to Issue Export Trade Certificates of Review. The Regulations Implementing Title III (“the Regulations”) are found at 15 CFR Part 325 (1999). Pursuant to this Authority, a Certificate of Review was issued on May 3, 1993 to Refined Sugar Trading Institute.

A Certificate Holder is required by law to submit to the Secretary of Commerce Annual Reports that update financial and other information relating to business activities covered by its Certificate (Section 308 of the Act, 15 U.S.C. 4018, Section 325.14(a) of the Regulations, 15 CFR 325.14(a)). The Annual Report is due within 45 days after the Anniversary Date of the Issuance of the Certificate of Review (Sections 325.14(a) and (b) of the Regulations). Failure to submit a complete Annual Report may be the Basis for Modification or Revocation (Sections 325.10(a)(3) and 325.14(c) of the Regulations). On the following dates April 23, 2005, April 23, 2006 and April 23, 2007, the Secretary of Commerce sent to Refined Sugar Trading Institute a letter containing Annual Report questions stating that its annual report was due on June 17, 2005, June 17, 2006 and June 17, 2007, respectively. The Secretary has received no written response from Refined Sugar Trading Institute or Domino Sugar Corporation relating to Domino Sugar Corporation's annual report. On July 12, 2007, and in accordance with Section 325.14(a) and (b) of the Regulations, the Secretary of Commerce sent a letter by Certified Mail to notify Refined Sugar Trading Institute that the Secretary was formally initiating the process to modify its Certificate to remove Domino Sugar Corporation for its failure to file annual reports directly or through the Refined Sugar Trading Institute. The Secretary has received no response from Refined Sugar Trading Institute. Pursuant to Section 325.10(a)(3) of the Regulations (15 CFR 325.10(a)(3)), the Secretary considers the response of Refined Sugar Trading Institute to be an admission of the statements contained in the notification letter. The Secretary has determined to modify the Certificate issued to Refined Sugar Trading Institute for the failure to file a complete Annual Report. The Secretary has sent a letter, dated August 20, 2007 to notify the Refined Sugar Trading Institute of its final determination.

The Modification is effective thirty (30) days from the date of publication of this notice (325.10(a)(3) of the Regulations, 15 CFR 325.14(c)). Any person aggrieved by this decision may appeal to an appropriate U.S. District Court within 30 days from the date of publication of this notice in the Federal Register “( 15 CFR 325.11 of the Regulations).”

Dated: August 20, 2007.
Jeffrey Anspacher,
Director Export Trading Company Affairs.

[FR Doc. E7-16921 Filed 8-27-07; 8:45 am]

BILLING CODE 3510-DR-P